DEPARTMENT OF DEFENSE

Office of the Secretary

Defense Support of Special Events

AGENCY: Under Secretary of Defense (Policy), Department of Defense (DoD).

ACTION: Notice.

SUMMARY: DoD capabilities may be used to provide support for special events if authorized by law and DoD policy. DoD resources in support of special events may be provided only after the resources of all other relevant governmental and non-governmental entities are determined not to be available, unless there is a statutory exception or the Department of Defense is the only source of specialized capabilities. Organizations eligible to request DoD support, including for special events, may request support by writing to the DoD Executive Secretary.

ADDRESSES: DoD Executive Secretary, 1000 Defense Pentagon, Washington, DC 20301-1000.

FOR FURTHER INFORMATION CONTACT: Carol Corbin at 571-256-8319.

SUPPLEMENTARY INFORMATION: Title 32 CFR part 183, Defense Support of Special Events, established procedures and assigned responsibilities for special events and set forth procedural guidance for the execution of special events support when requested by qualifying entities and approved by the appropriate DoD authority, or as directed by the President, within the United States. This notice informs the public of pertinent information concerning the submission of requests for special event support in lieu of part 183. DoD has determined that 32 CFR part 183 can be repealed as it mostly contains internal DoD procedures. The final rule that removes 32 CFR part 183 is publishing elsewhere in this issue of the Federal Register.

A special event is an international or domestic event, contest, activity, or meeting, which by its very nature, or by specific statutory or regulatory authority, may warrant security, safety, and other logistical support or assistance from DoD. Event status is not determined by DoD, and support may be requested by either civil authorities or qualifying entities.

A qualifying entity is a non-governmental organization to which DoD may provide assistance by virtue of statute. DoD support of qualifying entities for special events is pursuant to 10 U.S.C. 2012, 2553-2555, and 2564; 32 U.S.C. 508; and section 5802 of Public Law 104-208, as amended.

The Office of the Assistant Secretary of Defense for Homeland Defense and Global Security will consult with Heads of DoD Components to obtain senior-level coordination of recommendations for Secretary of Defense approval of requests for support.

The requestor of this support agrees to reimburse DoD, in accordance with the provisions of 10 U.S.C. 277, 2553-2555, and 2564, 31 U.S.C. 1535-1536, and other applicable provisions of law, unless DoD receives appropriations for or is authorized to make funds available for the support requested.

Dated: August 20, 2018.
Aaron T. Siegel,
Alternate OSD Federal Register Liaison Officer, Department of Defense.

[FR Doc. 2018-18227 Filed 8-22-18; 8:45 am]

BILLING CODE 5001-06-P